OVERSEAS PRIVATE INVESTMENT CORPORATION

Sunshine Act; Board of Directors Meeting

Time and Date: Thursday, April 28, 2005, 10 a.m. (open portion); 10:15 a.m. (closed portion).

Place: Offices of the Corporation, Twelfth Floor Board Room, 1100 New York Avenue, NW., Washington, DC.

Status: Meeting open to the Public from 10 a.m. to 10:15 a.m.; Closed portion will commence at 10:15 a.m. (approx.)

Matters To Be Considered:

1. President's Report.

2. Testimonials: Alan P. Larson, Peter S. Watson and Grant L. Aldonas.

3. Approval of January 27, 2005 minutes (open portion).

Further Matters To Be Considered: (Closed to the public 10:15 a.m.)

1. Finance Project—India, Indonesia, Sri Lanka, Thailand, Bangladesh, Kenya, Malaysia.

2. Finance Project—Zambia.

3. Finance Project—Asia.

4. Finance Project—Afghanistan.

5. Approval of January 27, 2005 Minutes (closed portion).

6. Pending Major Projects.

7. Reports. Update on project in India

Contact Person for Information: Information on the meeting may be obtained from Connie M. Downs at (202) 336-8438.

Dated: April 14, 2005.
Connie M. Downs,
Corporate Secretary, Overseas Private Investment Corporation.

[FR Doc. 05-7782 Filed 4-14-05; 12:40 pm]

BILLING CODE 3210-01-M